FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012478-001.

Agreement Name: ONE/OOCL Space Charter Agreement.

Parties: Ocean Network Express Pte. Ltd. and Orient Overseas Container Line Limited.

Filing Party: Joshua Stein; Cozen O'Connor.

Synopsis: The amendment replaces Nippon Yusen Kaisha with Ocean Network Express Pte. Ltd as a party to the Agreement, revises the amount of space being chartered, updates Article 9.1, and renames the Agreement.

Proposed Effective Date: 5/3/2019.

Location: https://www2.fmc.gov/FMC.Agreements.Web/Public/AgreementHistory/1983.

Agreement No.: 201213-001.

Agreement Name: Amended and Restated Marine Terminal Services Agreement between the Port of Houston Authority and COSCO SHIPPING Lines Co., Ltd. and Orient Overseas Container Line, Ltd.

Parties: COSCO Shipping Lines Co., Ltd.; Orient Overseas Container Line Limited; and Port of Houston Authority.

Filing Party: Chasless Yancy; Port of Houston Authority.

Synopsis: The amendment updates the parties to the Agreement.

Proposed Effective Date: 3/20/2019.

Location: https://www2.fmc.gov/FMC.Agreements.Web/Public/AgreementHistory/1983.

Dated: March 26, 2019.
Rachel E. Dickon,
Secretary.

[FR Doc. 2019-06126 Filed 3-28-19; 8:45 am]

BILLING CODE 6731-AA-P